DEPARTMENT OF HEALTH AND HUMAN SERVICES

National Institutes of Health

Government-Owned Inventions; Availability for Licensing

AGENCY: National Institutes of Health, Public Health Service, HHS.

ACTION: Notice.

SUMMARY: The invention listed below is owned by an agency of the U.S. Government and is available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Metal Chelators and Target-Moiety Complexes for Imaging

Available for licensing and commercial development are bifunctional metal chelators, metal chelator-targeting moiety complexes, metal chelator-targeting moiety-metal conjugates, kits, and methods of preparing them in a non-aqueous, automated peptide synthesizer system. These bifunctional chelators are useful for radiolabeling targeting moieties with SPECT and PET radioisotopes for molecular imaging for diagnosis and/or treatment of cancer. The metal chelators may be used in conventional synthetic methods to form targeting moieties [e.g., peptides, proteins, and Starburst polyamidoamine dendrimers (PAMAM)], capable of conjugating diagnostic and/or therapeutic metals. The formulae for two such chelators are shown below:

Inventors: Martin Wade Brechbiel and Thomas Clifford (NCI).

Publications:

1. T Clifford et al. Validation of a novel CHX-A” derivative suitable for peptide conjugation: small animal PET/CT imaging using yttrium-86-CHX-A”-octreotide. J Med Chem. 2006 Jul 13;49(14):4297-4304.

2. HS Chong et al. Synthesis and evaluation of novel macrocyclic and acyclic ligands as contrast enhancement agents for magnetic resonance imaging. J Med Chem. 2006 Mar 23;49(6):2055-2062.

Licensing Status: Available for exclusive or non-exclusive licensing or collaborative research opportunity.

Patent Status: U.S. Provisional Application No. 60/603,781 filed 23 Aug 2004 (HHS Reference No. E-317-2004/1-US-01); International Patent Application PCT/US2005/028125 filed 09 Aug 2005 (HHS Reference No. E-317-2004/1-PCT-02).

Licensing Contact: Michael A. Shmilovich, Esq.; 301/435-5019; shmilovm@mail.nih.gov.

Dated: January 30, 2007.
Steven M. Ferguson,
Director, Division of Technology Development and Transfer, Office of Technology Transfer, National Institutes of Health.

[FR Doc. 07-526 Filed 2-6-07; 8:45 am]

BILLING CODE 4140-01-P